DEPARTMENT OF TRANSPORTATION

Federal Aviation Administration

14 CFR Part 71

[Docket No. FAA-2017-1214; Airspace Docket No. 17-ASO-24]

RIN 2120-AA66

Amendment of Class E Airspace, Knoxville, TN; and Establishment of Class E Airspace, Madisonville, TN

AGENCY: Federal Aviation Administration (FAA), DOT.

ACTION: Final rule.

SUMMARY: This action amends Class E surface airspace at Knoxville Downtown Island Airport, Knoxville, TN, by adding to the airspace description the exclusion of a 1-mile radius around University of Tennessee Medical Center Heliport, to allow helicopters departing from the heliport to no longer require a clearance. Also, the Benfi non-directional radio beacon (NDB) has been decommissioned, requiring redesign of Class E airspace extending upward from 700 feet above the surface at McGhee-Tyson Airport, and Monroe County Airport, Madisonville, TN, is moved to stand-alone airspace with its own designation. This action is necessary to further the safety and management of Instrument Flight Rules (IFR) operations at these airports. This action also updates the geographic coordinates of Knoxville Downtown Island Airport, McGhee Tyson Airport, and Gatlinburg-Pigeon Forge Airport in the associated Class E airspace areas to coincide with the FAA's aeronautical database.

DATES: Effective 0901 UTC, January 3, 2019. The Director of the Federal Register approves this incorporation by reference action under title 1, Code of Federal Regulations, part 51, subject to the annual revision of FAA Order 7400.11 and publication of conforming amendments.

ADDRESSES: FAA Order 7400.11C, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E surface airspace at Knoxville Downtown Island Airport, Knoxville, TN, and amends Class E airspace extending upward from 700 feet above the surface by removing Monroe County Airport, Madisonville, TN, from in the legal description for McGhee-Tyson Airport, and establishing it under its own designation of Madisonville, TN, to support IFR operations at the airport.

History

The FAA published a notice of proposed rulemaking in the Federal Register (83 FR 19474, May 3, 2018) for Docket No. FAA-2017-1214 to amend Class E surface airspace at Knoxville Downtown Island Airport, Knoxville, TN, by adding to the airspace description the exclusion of a 1-mile radius around University of Tennessee Medical Center Heliport, and to amend Class E airspace extending upward from 700 feet above the surface at McGhee-Tyson Airport, Kenansville, NC, due to the decommissioning of the Kenan NDB, and cancellation of the NDB approach. The FAA published a supplemental notice of proposed rulemaking in the Federal Register (83 FR 39386, August 9, 2018) for Docket No. FAA-2017-1214 to amend Class E airspace extending upward from 700 feet above the surface by removing Monroe County Airport, Madisonville, TN, from in the legal description for McGhee-Tyson Airport, and establishing it under its own designation of Madisonville, TN. Interested parties were invited to participate in this rulemaking effort by submitting written comments on the proposal to the FAA. No comments were received.

Class E airspace designations are published in paragraphs 6002 and 6005, respectively, of FAA Order 7400.11C dated August 13, 2018, and effective September 15, 2018, which is incorporated by reference in 14 CFR part 71.1. The Class E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) amends part 71 by:

Amending Class E surface airspace at Knoxville Downtown Island Airport, Knoxville, TN, by adding to the airspace description the exclusion of a 1-mile radius around University of Tennessee Medical Center Heliport;

Amending Class E airspace extending upward from 700 feet above the surface to within a 15.4-mile (from a 10-mile) radius of McGhee-Tyson Airport, Kenansville, NC, due to the decommissioning of the Kenan NDB, and cancellation of the NDB approach;

Adjusting of the geographic coordinates of Knoxville Downtown Island Airport, McGhee Tyson Airport, and Gatlinburg-Pigeon Forge Airport, to be in concert with the FAA's aeronautical database;

Removing Monroe County Airport, Madisonville, TN, from the Knoxville, TN, McGhee-Tyson Airport designation, and establishing it as stand-alone airspace with its own designation.

Class E airspace designations are published in Paragraphs 6002 and 6005, respectively, of FAA Order 7400.11C, dated August 13, 2018, and effective September 15, 2018, which is incorporated by reference in 14 CFR 71.1. The Class E airspace designation listed in this document will be published subsequently in the Order.

Regulatory Notices and Analyses

The FAA has determined that this proposed regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

Lists of Subjects in 14 CFR Part 71

Airspace, Incorporation by reference, Navigation (air).

Adoption of the Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11C, Airspace Designations and Reporting Points, dated August 13, 2018, and effective September 15, 2018, is amended as follows:

Paragraph 6002 Class E Surface Area Airspace.

* * * * *

ASO TN E2 Knoxville, TN [Amended]

Knoxville Downtown Island Airport, TN

(Lat. 35°57′50″ N, long. 83°52′25″ W)

University of Tennessee Medical Center Heliport, TN

(Lat. 35°56′30″ N, long. 83°56′38″ W)

Within a 4.5-mile radius of Knoxville Downtown Island Airport, excluding that airspace within a 1.0-mile radius of University of Tennessee Medical Center Heliport.

Paragraph 6005 Class E Airspace Areas Extending Upward from 700 feet or More Above the Surface of the Earth.

* * * * *

ASO TN E5 Knoxville, TN [Amended]

McGhee-Tyson Airport, TN

(Lat. 35°48′34″ N, long. 83°59′43″ W)

Gatlinburg-Pigeon Forge Airport, TN

(Lat. 35°51′28″ N, long. 83°31′43″ W)

Knoxville Downtown Island Airport, TN

(Lat. 35°57′50″ N, long. 83°52′25″ W)

That airspace extending upward from 700 feet above the surface within a 15.4-mile radius of McGhee-Tyson Airport, and within a 13-mile radius of Gatlinburg-Pigeon Forge Airport, and from the 080° bearing from Gatlinburg-Pigeon Forge Airport clockwise to the 210° bearing extending from the 13-mile radius southeast to the 33-mile radius centered on Gatlinburg-Pigeon Forge Airport, and within an 8-mile radius of Knoxville Downtown Island Airport.

ASO TN E5 Madisonville, TN [New]

Monroe County Airport, TN,

(Lat. 35°32′43″ N, long. 84°22′49″ W)

That airspace extending upward from 700 feet above the surface within an 8.5-mile radius of Monroe County Airport.

Issued in College Park, Georgia, on September 24, 2018.
Ryan W. Almasy,
Manager, Operations Support Group, Eastern Service Center, Air Traffic Organization.

[FR Doc. 2018-21316 Filed 10-1-18; 8:45 am]

BILLING CODE 4910-13-P